DEPARTMENT OF ENERGY

Federal Energy Regulatory Commission

Combined Notice of Filings #1

Take notice that the Commission received the following electric corporate filings:

Docket Numbers: EC17-151-000.

Applicants: Waverly Wind Farm LLC.

Description: Application for Authorization for Disposition of Jurisdictional Facilities and Request for Expedited Action of Waverly Wind Farm LLC.

Filed Date: 8/4/17.

Accession Number: 20170804-5211.

Comments Due: 5 p.m. ET 8/25/17.

Docket Numbers: EC17-152-000.

Applicants: GenOn Energy, Inc.

Description: Application of GenOn Energy, Inc. and Its Public Utility Subsidiaries for Approval Under Section 203 of the Federal Power Act and Request for Expedited Action.

Filed Date: 8/4/17.

Accession Number: 20170804-5214.

Comments Due: 5 p.m. ET 8/25/17.

Take notice that the Commission received the following electric rate filings:

Docket Numbers: ER16-328-004; ER10-2196-004; ER10-2740-012; ER10-2742-011; ER11-4027-009; ER13-1143-005; ER13-1144-005; ER14-152-008; ER15-1657-005; ER17-1849-001.

Applicants: Cogentrix Virginia Financing Holding Com, Elgin Energy Center, LLC, Essential Power OPP, LLC, Essential Power Rock Springs, LLC, James River Genco, LLC, Nautilus Power, LLC, Rocky Road Power, LLC, SEPG Energy Marketing Services, LLC, Tilton Energy LLC, Lakewood Cogeneration, L.P.

Description: Notice of Non-Material Change in Status of Cogentrix Virginia Financing Holding Company, LLC, et al.

Filed Date: 8/4/17.

Accession Number: 20170804-5216.

Comments Due: 5 p.m. ET 8/25/17.

Docket Numbers: ER17-2248-000.

Applicants: Sierra Pacific Power Company.

Description: Notice of Cancellation of Emergency Services Agreement of Sierra Pacific Power Company.

Filed Date: 8/4/17.

Accession Number: 20170804-5230.

Comments Due: 5 p.m. ET 8/25/17.

Docket Numbers: ER17-2249-000.

Applicants: Midcontinent Independent System Operator, Inc., Duke Energy Indiana, LLC.

Description: § 205(d) Rate Filing: 2017-08-07_DEI-DEI WDS Termination to be effective 8/8/2017.

Filed Date: 8/7/17.

Accession Number: 20170807-5072.

Comments Due: 5 p.m. ET 8/28/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 7, 2017.
Nathaniel J. Davis, Sr.,
Deputy Secretary.

[FR Doc. 2017-16957 Filed 8-10-17; 8:45 am]

BILLING CODE 6717-01-P